DEPARTMENT OF DEFENSE

Office of the Secretary

[Docket ID: DoD-2013-OS-0196]

Notice of Availability (NOA) for Strategic Network Optimization (SNO) Program Environmental Assessment

AGENCY: Defense Logistics Agency, DoD.

ACTION: Notice of Availability (NOA) for Strategic Network Optimization (SNO) Program Environmental Assessment.

SUMMARY: The Defense Logistics Agency (DLA) announces the availability of an environmental assessment (EA) for the potential environmental impacts associated with the proposed action to implement the SNO initiative for improvements to material distribution network for the Department of Defense (DoD). The EA has been prepared as required under the National Environmental Policy Act (NEPA) (1969). In addition, the EA complies with DLA Regulation (DLAR) 1000.22. The EA evaluates the potential environmental impacts of optimizing the DoD distribution network with reconfigured transportation and storage network—from supplier to transporter to end customer. Based on the analysis in the EA, DLA has determined that the proposed action was not a major federal action significantly affecting the quality of the human environment within the context of NEPA. Therefore, the preparation of an environmental impact statement (EIS) is not required.

DATES: The public comment period will end 30 days after publication of this NOA in the Federal Register. Comments received by the end of the 30-day period will be considered when preparing the final version of the document. The EA is available electronically at http://www.dla.mil/Documents/DLA%20SNO%20EA%20September%202013.docx.

ADDRESSES: You may submit comments to one of the following:

• Federal eRulemaking Portal: http://www.regulations.gov. Follow the instructions for submitting comments.

• Mail: Federal Docket Management System Office, 4800 Mark Center Drive, East Tower, 2nd floor, Suite 02G09, Alexandria, VA 22350-3100.

FOR FURTHER INFORMATION CONTACT: Ann Engelberger at (703) 767-0705 during normal business hours Monday through Friday, from 8:00 a.m. to 4:30 p.m. (EST) or by email: Ann.Engelberger@dla.mil.

Dated: September 17, 2013.
Aaron Siegel,
Alternate OSD Federal Register Liaison Officer, Department of Defense.

[FR Doc. 2013-22907 Filed 9-19-13; 8:45 am]

BILLING CODE 5001-06-P